DEPARTMENT OF DEFENSE

Office of the Secretary

Defense Innovation Board; Notice of Federal Advisory Committee Meeting

AGENCY: Deputy Chief Management Officer, Department of Defense (DoD).

ACTION: Notice of Federal Advisory Committee meeting.

SUMMARY: The DoD is publishing this notice to announce that the following Federal Advisory Committee meeting of the Defense Innovation Board (DIB) will take place.

DATES: Open to the public, Tuesday, October 24, 2017 from 9:00 a.m. to 11:00 a.m.

ADDRESSES: The meeting will be held at 1776 Crystal City, 2231 Crystal Drive, Arlington, VA 22202. Additionally, the meeting will be live streamed for those who are unable to physically attend the meeting.

FOR FURTHER INFORMATION CONTACT: Roma Laster, (703) 695-7563 (Voice), (703) 614-4365 (Facsimile), roma.k.laster.civ@mail.mil (Email). Mailing address is Defense Innovation Board, 9000 Defense Pentagon, Room 5E572, Washington, DC 20350.

SUPPLEMENTARY INFORMATION: Due to circumstances beyond the control of the Designated Federal Officer and the Department of Defense, the Defense Innovation Board was unable to provide public notification concerning its meeting on October 24, 2017, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The mission of the DIB is to examine and provide the Secretary of Defense and the Deputy Secretary of Defense independent advice and recommendations on innovative means to address future challenges in terms of integrated change to organizational structure and processes, business and functional concepts, and technology applications. The DIB focuses on (a) technology and capabilities, (b) practices and operations, and (c) people and culture.

Agenda: The DIB will discuss potential recommendations to (1) Establish a Department of Defense Accelerator, (2) Develop an Innovation Career Track, and (3) Build Innovation Capacity with Partners and Allies. The DIB will invite selected experts to provide analysis and inputs related to innovation, innovation cells, and innovation activities within DoD. The DIB will invite selected experts to provide analysis and inputs related to workforce innovation initiatives; potential experts include representatives from the Office of the Vice Chief of Staff of the Air Force, Illuminate at U.S. Fleet Forces Command, the Future Concepts team at U.S. Army Special Operations Command, the Joint Development Technology Accelerator, and NextLog at USMC Installations & Logisitcs. The DIB will receive an update on the Science & Technology subcommittee's current work on software acquisition and reform guidance. The DIB's Executive Director will brief the DIB on DoD's latest implementation activities related to DIB recommendations. Members of the public will have an opportunity to provide input on the DIB's potential recommendations to establish a DoD accelerator, develop an innovation career track, and build innovation capacity with partners and allies.

Meeting Accessibility: Pursuant to Federal statutes and regulations (FACA, the Government in the Sunshine Act and 41 CFR 102-3.140 through 102-3.165) and the availability of space, the meeting is open to the public from 9:00 a.m. to 11:00 a.m. Seating is on a first-come basis. Members of the public wishing to attend the meeting or wanting to receive a link to the live stream webcast should contact the Executive Director to register no later than October 20, 2017, by email at osd.innovation@mail.mil.

Special Accommodations: Individuals requiring special accommodations to access the public meeting should contact the Executive Director at least five business days prior to the meeting so that appropriate arrangements can be made.

Written Statements: Pursuant to section 10(a)(3) of the FACA and 41 CFR 102-3.140, the public or interested organizations may submit written comments to the DIB about its approved agenda pertaining to this meeting or at any time regarding the DIB's mission. Individuals submitting a written statement must submit their statement to the Executive Director at osd.innovation@mail.mil. Written comments that do not pertain to a scheduled meeting may be submitted at any time. However, if individual comments pertain to a specific topic being discussed at the planned meeting, then such comments must be received in writing not later than October 20, 2017. The Executive Director will compile all written submissions received by the deadline and provide them to Board Members prior to the meeting. Comments received after this date may not be provided to or considered by the DIB until a later date.

Oral Presentations: Individuals wishing to make an oral statement to the DIB at the public meeting may be permitted to speak for up to three minutes. Anyone wishing to speak to the DIB should submit a request by email at osd.innovation@mail.mil not later than October 20, 2017 for planning. Requests for oral comments should include a copy or summary of planned remarks for archival purposes. Individuals may also be permitted to submit a comment request at the public meeting; however, depending on the number of individuals requesting to speak, the schedule may limit participation. Webcast attendees will be provided instructions with the live stream link if they wish to submit comments during the open meeting.

Dated: October 11, 2017.
Aaron Siegel,
Alternate OSD Federal Register Liaison Officer, Department of Defense.

[FR Doc. 2017-22367 Filed 10-13-17; 8:45 am]

BILLING CODE 5001-06-PA16OC3.